DEPARTMENT OF THE INTERIOR

Bureau of Land Management

[WO-310-1310-08-24-1A-PP]

Extension of Approved Information Collection Submitted to the Office of Management and Budget Under the Paperwork Reduction Act, OMB Control Number 1004-0196

AGENCY: Bureau of Land Management, Interior.

ACTION: Notice and request for comments.

SUMMARY: The Bureau of Land Management (BLM) has submitted the proposed collection of information listed below to the Office of Management and Budget (OMB) for approval under the provisions of the Paperwork Reduction Act (44 U.S.C. 3501 et seq.). On September 18, 2007, the BLM published a notice in the Federal Register (72 FR 53261) requesting comments on the collection. The comment period closed on November 19, 2007. The BLM received no comments. You may obtain copies of the proposed collection of information and related explanatory material by contacting the BLM Information Collection Clearance Officer at the telephone number listed below.

DATES: OMB is required to respond to this request within 60 days but may respond after 30 days. For maximum consideration, please send your comments and suggestions on the requirements to the BLM at the address below on or before February 28, 2008.

ADDRESSES: You may send comments to the Office of Management and Budget, Interior Department Desk Officer (1004-0196), at OMB-OIRA via facsimile to (202) 395-6566 or e-mail to oira_docket@omb.eop.gov. Please provide a copy of your comments to the BLM Information Collection Clearance Officer (WO-630), Bureau of Land Management via Internet and include your name, address, and ATTN: 1004-0196 in your Internet message to comments_washington@blm.gov or via mail to: U.S. Department of the Interior, Bureau of Land Management, Mail Stop 401LS, 1849 C Street, NW., ATTN: Bureau Information Collection Clearance Officer (WO-630), Washington, DC 20240.

FOR FURTHER INFORMATION CONTACT: You may contact Barbara Gamble, Division of Fluid Minerals, on (202) 452-0338 (Commercial or FTS). Persons who use a telecommunications device for the deaf (TDD) may call the Federal Information Relay Service (FIRS) on 1-800-877-8339, 24 hours a day, seven days a week, to leave message or question with the above individual. For questions regarding the information collection process, you may contact Alexandra Ritchie, Bureau Information Collection Clearance Officer (WO-630) by phone on (202) 452-0388, fax (202) 653-5287, or e-mail at Alexandra_Ritchie@blm.gov.

SUPPLEMENTARY INFORMATION: OMB Control Number: 1004-0196.

Title: Oil and Gas Leasing: National Petroleum Reserve, Alaska (43 CFR subparts 3130, 3133, 3135, 3137, and 3138).

BLM Form Numbers: None.

Type of Request: Extension of currently approved information collection.

Affected Public: Private sector.

Respondent's Obligation: Required to obtain or retain a benefit.

Frequency of Collection: On occasion; nonrecurring.

Estimated Total Annual Respondents: 20

Estimated Total Annual Responses: 20 (1 per type of information requirement)

Estimated Time Per Response: Varies from 1/4 hour to 80 hours, depending on which information requirement respondent is addressing. Specifically: 43 CFR 3133.4 Royalty reduction (16 hours), 43 CFR 3135.3 Suspension of operations (4 hours), 43 CFR 3135.6 Notification of operations (1/4 hour), 43 CFR 3137.23 Unit designation (80 hours), 43 CFR 3137.25 Notification of unit approval (1 hour), 43 CFR 3137.52 Certification for modification (4 hours), 43 CFR 3137.60 Acceptable bonding (1/2 hour), 43 CFR 3137.61 Change of unit operator (.75 hours), 43 CFR 3137.70 Certification of unit obligation (2 hours), 43 CFR 3137.71 Certification of continuing development (2 hours), 43 CFR 3137.84 Productivity for a PA (12 hours), 43 CFR 3137.87 Unleased tracts (3 hours), 43 CFR 3137.88 Notification of productivity (1/2 hour), 43 CFR 3137.91 Notification of productivity for non-unit well (1/2 hour), 43 CFR 3137.92 Production information (1 hours), 43 CFR 3137.111 Lease extension (3 hours), 43 CFR 3137.112 Inability to conduct operations activities (2 hours), 43 CFR 3137.130 Unit termination (1 hour), 43 CFR 3137.135 Impact mitigation (4 hours) and 43 CFR 3138.11 Storage agreement (80 hours).

Estimated Total Annual Burden Hours: 217 and 1/2 hours.

Abstract: The regulations at 43 CFR subparts 3130, 3133, 3135, 3137, and 3138 provide for operators or operating rights owners to apply for designation of NPRA unit agreements and, if approved by the Bureau of Land Management, to operate under a unit plan on NPRA Federal lands. The operators are required to retain and/or provide data and other relevant information to determine whether proposed unit agreements meet the requirements for unitized exploration and development of oil and gas resources of the NPRA.

Request for Comments: We specifically request your comments on the following:

1. Whether the collection of information is necessary for the proper functioning of agency, including whether the information will have practical utility;

2. The accuracy of our estimates of the information collection, including the validity of the methodology and assumptions we use;

3. Ways to enhance the quality, utility, and clarity of the information; and

4. Ways to minimize the information collection burden on those who are to respond, including the use of appropriate automated, electronic, mechanical, or other technological collection techniques or other forms of information technology.

An agency may not conduct or sponsor, and a person is not required to respond to, a collection of information unless it displays a currently valid OMB control number. The OMB control number for this collection is 1004-0196.

Dated: January 23, 2008.
Alexandra Ritchie,
Bureau of Land Management, Information Collection Clearance Officer.

[FR Doc. E8-1469 Filed 1-28-08; 8:45 am]

BILLING CODE 4310-84-P